FEDERAL RESERVE SYSTEM

Agency Information Collection Activities: Announcement of Board Approval Under Delegated Authority and Submission to OMB

AGENCY: Board of Governors of the Federal Reserve System.

SUMMARY: The Board of Governors of the Federal Reserve System (Board) is adopting a proposal to extend for three years, with revision, the Consolidated Holding Company Report of Equity Investments in Nonfinancial Companies and the Annual Report of Merchant Banking Investments Held for an Extended Period (FR Y-12, FR Y-12A; OMB No. 7100-0300).

FOR FURTHER INFORMATION CONTACT: Federal Reserve Board Clearance Officer—Nuha Elmaghrabi—Office of the Chief Data Officer, Board of Governors of the Federal Reserve System, nuha.elmaghrabi@frb.gov, (202) 452-3884.

Office of Management and Budget (OMB) Desk Officer for the Federal Reserve Board, Office of Information and Regulatory Affairs, Office of Management and Budget, New Executive Office Building, Room 10235, 725 17th Street NW, Washington, DC 20503, or by fax to (202) 395-6974.

SUPPLEMENTARY INFORMATION: On June 15, 1984, OMB delegated to the Board authority under the Paperwork Reduction Act (PRA) to approve and assign OMB control numbers to collections of information conducted or sponsored by the Board. Board-approved collections of information are incorporated into the official OMB inventory of currently approved collections of information. The OMB inventory, as well as copies of the PRA Submission, supporting statements (which contain more detailed information about the information collections and burden estimates than this notice), and approved collection of information instrument(s) are available at https://www.reginfo.gov/public/do/PRAMain. These documents are also available on the Federal Reserve Board's public website at https://www.federalreserve.gov/apps/reportingforms/home/review or may be requested from the agency clearance officer, whose name appears above.

Final Approval Under OMB Delegated Authority of the Extension for Three Years, With Revision, of the Following Information Collection

Collection title: Consolidated Holding Company Report of Equity Investments in Nonfinancial Companies and the Annual Report of Merchant Banking Investments Held for an Extended Period.

Collection identifier: FR Y-12, FR Y-12A.

OMB control number: 7100-0300.

Effective Date: December 31, 2023.

General description of collection: The FR Y-12 report collects information from certain holding companies on their equity investments in nonfinancial companies. The FR Y-12A report collects information from certain financial holding companies (FHCs) on merchant banking investments that they have held for longer than 8 years (or 13 years in the case of investments held through a qualifying private equity fund). The Board uses the FR Y-12 report to monitor the growth in equity investments in nonfinancial companies and their contributions to capital, profitability, risk, and volatility. The Board uses the FR Y-12A report to monitor investments that are approaching the end of their applicable holding periods.

Frequency: Quarterly, semiannually, annually.

Respondents: Bank holding companies, savings and loan holding companies, U.S. intermediate holding companies, and certain FHCs.

Total estimated number of respondents: 31.

Total estimated change in burden: 66.

Total estimated annual burden hours: 2,021. ¹

¹ More detailed information regarding this collection, including more detailed burden estimates, can be found in the OMB Supporting Statement posted at https://www.federalreserve.gov/apps/reportingforms/home/review. On the page displayed at the link, you can find the OMB Supporting Statement by referencing the collection identifier, FR Y-12 and FR Y-12A.

Current actions: On July 19, 2023, the Board published a notice in the Federal Register (88 FR 46161) requesting public comment for 60 days on the extension, with revision, of the FR Y-12 and FR Y-12A. The Board proposed to revise the FR Y-12 and FR Y-12A instructions by clarifying when respondents should submit their reports when the submission deadline falls on a weekend or holiday, modifying and clarifying recordkeeping requirements, clarifying the reported amount of a firm's aggregate nonfinancial equity investment, clarifying which columns are applicable to certain FR Y-12 schedules, and aligning the two reports' submission deadlines. The comment period for this notice expired on September 18, 2023. The Board did not receive any comments. The revisions will be implemented as originally proposed.

Board of Governors of the Federal Reserve System, November 29, 2023.
Michele Taylor Fennell,
Deputy Associate Secretary of the Board.

[FR Doc. 2023-26583 Filed 12-4-23; 8:45 am]

BILLING CODE 6210-01-P